DEPARTMENT OF ENERGY

Federal Energy Regulatory Commission

[ Project No. 14581-002; Project No. 2299-082]

Notice of Modification of Procedural Schedule; Turlock Irrigation District, Modesto Irrigation District

Take notice that the schedule for processing the following hydroelectric applications has been modified.

a. Type of Applications: Major Licenses.

b. Project Nos.: 14581-002 and 2299-082.

c. Date filed: October 11, 2017.

d. Applicant: Turlock Irrigation District and Modesto Irrigation District (Districts).

e. Name of Projects: La Grange and Don Pedro Hydroelectric Projects.

f. Location: The La Grange Project is located on the Tuolumne River in Stanislaus and Tuolumne Counties, California. The Don Pedro Project is located on the Tuolumne River in Tuolumne County, California. Portions of both projects occupy public lands managed by the Bureau of Land Management.

g. Filed Pursuant to: Federal Power Act, 16 U.S.C. 791(a)-825(r).

h. Applicant Contacts: Steve Boyd, Turlock Irrigation District, 333 East Canal Drive, Turlock, California 95381-0949, (209) 883-8300; and Anna Brathwaite, Modesto Irrigation District, P.O. Box 4060, Modesto, CA 95352, (209) 526-7384.

i. FERC Contact: Jim Hastreiter at (503) 552-2760 or james.hastreiter@ferc.gov.

j. Procedural Schedule: The Commission's November 30, 2017, Notice of Application Ready for Environmental Analysis for each of the projects established July 2018 as the estimated date for issuing the Draft Environmental Impact Statement (EIS). The revised estimate for issuing the Draft EIS is now November 2018. As such, the applications will be processed according to the following revised schedule. Revisions to the schedule may be made as appropriate. If a due date falls on a weekend or holiday, the due date will be the following business day.

Milestone | Target date
Commission issues Draft EIS | November 2018.
Comments on Draft EIS | January 2019.
Modified Terms and Conditions | March 2019.
Commission issues Final EIS | May 2019.

Dated: June 27, 2018.
Kimberly D. Bose,
Secretary.

[FR Doc. 2018-14345 Filed 7-3-18; 8:45 am]

BILLING CODE 6717-01-P